DEPARTMENT OF LABOR

Occupational Safety and Health Administration

[Docket No. OSHA-2014-0001]

National Advisory Committee on Occupational Safety and Health (NACOSH)

AGENCY: Occupational Safety and Health Administration (OSHA), Labor.

ACTION: Announcement of a meeting of NACOSH.

SUMMARY: NACOSH will meet February 12, 2014, in Washington, DC. In conjunction with the committee meeting, a NACOSH Work Group will meet February 11, 2014.

DATES: NACOSH meeting: NACOSH will meet from 9 a.m. to 5 p.m., Wednesday, February 12, 2014.

NACOSH Work Group meeting: A NACOSH Work Group will meet from 1-4 p.m., Tuesday, February 11, 2014.

Comments, requests to speak, speaker presentations, and requests for special accommodation: You must submit (postmark, send, transmit) comments, requests to address NACOSH, speaker presentations (written or electronic), and requests for special accommodation for the NACOSH and NACOSH Work Group meetings by February 4, 2014.

ADDRESSES: NACOSH and NACOSH Work Group meetings: NACOSH and the NACOSH Work Group will meet in Room C-5320-6, U.S. Department of Labor, 200 Constitution Avenue NW., Washington, DC 20210.

Submission of comments, requests to speak, and speaker presentations: You may submit comments, requests to address NACOSH, and speaker presentations using one of the following methods:

Electronically: You may submit materials, including attachments, electronically at http://www.regulations.gov, which is the Federal eRulemaking Portal. Follow the instructions on that Web page for making submissions;

Facsimile: If your submission, including attachments, does not exceed 10 pages, you may fax it to the OSHA Docket Office at (202) 693-1648; or

Regular mail, express mail, hand delivery, or messenger/courier service (hard copy): You may submit your materials to the OSHA Docket Office, Docket No. OSHA-2014-0001, Room N-2625, U.S. Department of Labor, 200 Constitution Avenue NW., Washington, DC 20210; telephone (202) 693-2350 (OSHA TTY (887) 889-5627). OSHA's Docket Office accepts deliveries (hand deliveries, express mail, and messenger service) during normal business hours, 8:15 a.m. to 4:45 p.m., e.t., weekdays.

Requests for special accommodations: Please submit requests for special accommodations to attend the NACOSH and NACOSH Work Group meetings by email, telephone, or hard copy to Ms. Frances Owens, OSHA Office of Communications, Room N-3647, U.S. Department of Labor, 200 Constitution Avenue NW., Washington, DC 20210; telephone (202) 693-1999 (OSHA TTY (887) 889-5627); email owens.frances@dol.gov.

Instructions: Your submissions must include the Agency name and docket number for this Federal Register notice (Docket No. OSHA-2014-0001). Due to security-related procedures, submissions by regular mail may experience significant delays. Please contact the OSHA Docket Office for information about security procedures for making submissions. For additional information on submitting comments, requests to speak and speaker presentations, see the SUPPLEMENTARY INFORMATION section of this notice.

OSHA will post in the public docket, without change, any comments, requests to speak, and speaker presentations, including any personal information that you provide. Therefore, OSHA cautions you about submitting personal information such as Social Security numbers and birthdates.

FOR FURTHER INFORMATION CONTACT: For press inquiries: Mr. Frank Meilinger, Director, OSHA Office of Communications, U.S. Department of Labor, Room N-3647, 200 Constitution Avenue NW., Washington, DC 20210; telephone (202) 693-1999; email meilinger.francis2@dol.gov.

For general information about NACOSH and NACOSH meetings: Ms. Elizabeth Grossman, Director, OSHA Office of Evaluation and Audit Analysis, Directorate of Evaluation and Analysis, U.S. Department of Labor, Room N-3641, 200 Constitution Avenue NW., Washington, DC 20210; telephone (202) 693-2225; email grossman.elizabeth@dol.gov.

SUPPLEMENTARY INFORMATION:

NACOSH Meeting

NACOSH will meet February 12, 2014, in Washington, DC. Some NACOSH members may attend the meeting electronically. The NACOSH meeting is open to the public.

Section 7(a) of the Occupational Safety and Health Act of 1970 (OSH Act) (29 U.S.C. 651, 656) authorizes NACOSH to advise the Secretary of Labor and the Secretary of Health and Human Services on matters relating to the administration of the OSH Act. NACOSH is a continuing advisory body and operates in compliance with the OSH Act, the Federal Advisory Committee Act (5 U.S.C. App. 2), and regulations issued pursuant to those statutes (29 CFR part 1912a, 41 CFR part 102-3).

The tentative agenda for the NACOSH meeting includes:

Remarks from the Assistant Secretary of Labor for Occupational Safety and Health (OSHA);

Remarks from the Director of the National Institute of Occupational Safety and Health (NIOSH);

NACOSH Work Group report and consideration of work group recommendations; and

Public comments.

OSHA transcribes NACOSH meetings and prepares detailed minutes of NACOSH meetings. OSHA posts in the public docket NACOSH meeting transcripts, minutes, written comments, speaker presentations, and other materials submitted to NACOSH or presented at NACOSH and NACOSH Work Group meetings.

NACOSH Work Group

A NACOSH Work Group will meet February 11, 2014. The meeting is open to the public. The purpose of the NACOSH Work Group is to discuss issues affecting the occupational safety and health of temporary workers and to provide recommendations to NACOSH on best practices for ensuring the workplace safety and health of temporary workers. The NACOSH Work Group will present a report and recommendations to NACOSH at the February 12, 2014, meeting for the Committee's consideration and deliberation.

Public Participation, Submissions, and Access to Public Record

NACOSH and NACOSH Work Group meetings: All NACOSH and NACOSH Work Group meetings are open to the public. Individuals attending NACOSH meetings at the U.S. Department of Labor must enter the building at the Visitors' Entrance at 3rd and C Streets, NW., and pass through building security. Attendees must have valid government-issued photo identification (e.g., driver's license) to enter the building. For additional information about building security measures for attending NACOSH and NACOSH Work Group meetings, please contact Ms. Owens (see ADDRESSES section).

Individuals requesting special accommodation to attend the NACOSH and NACOSH Work Group meeting should contact Ms. Owens.

Submission of comments: You may submit comments using one of the methods listed in the ADDRESSES section. Your submission must include the Agency name and Docket number for this NACOSH meeting (Docket No. OSHA-2014-0001). OSHA will provide copies of your submissions to NACOSH members.

Because of security-related procedures, submissions by regular mail may experience significant delays. For information about security procedures for submitting materials by hand delivery, express mail, and messenger or courier service, please contact the OSHA Docket Office (see ADDRESSES section).

Requests to speak and speaker presentations: If you want to address NACOSH at the meeting you must submit your request to speak, as well as any written or electronic presentation, by February 4, 2014, using one of the methods listed in the ADDRESSES section. Your request must state:

• The amount of time requested to speak;

• The interest you represent (e.g., business, organization, affiliation), if any; and

• A brief outline of the presentation.

PowerPoint presentations and other electronic materials must be compatible with PowerPoint 2010 and other Microsoft Office 2010 formats. The NACOSH Chair may grant requests to address NACOSH as time and circumstances permit.

Public docket of NACOSH meetings: OSHA places comments, requests to speak, and speaker presentations, including any personal information you provide, in the public docket, without change. Those documents also may be available online at http://www.regulations.gov. Therefore, OSHA cautions you about submitting certain personal information such as Social Security numbers and birthdates.

OSHA also places in the public docket meeting transcripts, meeting minutes, documents presented at the NACOSH meeting, and other documents pertaining to NACOSH and NACOSH Work Group meetings. These documents may be available online at http://www.regulations.gov.

Access to the public record of NACOSH meetings: To read or download documents in the public docket, go to Docket No. OSHA-2014-0001 at http://www.regulations.gov. The index of that Web page lists all of the documents in the public record for this meeting; however, some documents (e.g., copyrighted materials) are not publicly available through that Web page. All documents in the public record, including materials not available through http://www.regulations.gov, are available for inspection and copying in the OSHA Docket Office (see ADDRESSES section). Please contact the OSHA Docket Office for assistance in making submissions to, or obtaining materials from, the public docket.

Electronic copies of this Federal Register notice are available at http://www.regulations.gov. This notice, as well as news releases and other relevant information, are also available on OSHA's Web page at http://www.osha.gov.

Authority and Signature

David Michaels, Ph.D., MPH, Assistant Secretary of Labor for Occupational Safety and Health, authorized the preparation of this notice under the authority granted by 29 U.S.C. 656; 5 U.S.C. App. 2; 29 CFR part 1912a; 41 CFR part 102-3; and Secretary of Labor's Order No. 1-2012 (77 FR 3912 (1/25/2012)).

Signed at Washington, DC, on January 10, 2014.
David Michaels,
Assistant Secretary of Labor for Occupational Safety and Health.

[FR Doc. 2014-00677 Filed 1-15-14; 8:45 am]

BILLING CODE 4510-26-P